ENVIRONMENTAL PROTECTION AGENCY

[FRL OP-OFA-152]

Environmental Impact Statements; Notice of Availability

Responsible Agency: Office of Federal Activities, General Information 202-564-5632 or https://www.epa.gov/nepa.

Weekly receipt of Environmental Impact Statements (EIS)

Filed November 4, 2024 10 a.m. EST Through November 8, 2024 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20240203, Draft, FHWA, PA, U.S. 6219, Section 050 Transportation Improvement Project, Comment Period Ends: 01/13/2025, Contact: Benjamin Harvey 717-221-3701.

EIS No. 20240204, Final, GSA, WA, Kenneth G. Ward (Lynden) and Sumas Land Ports of Entry Modernization and Expansion Projects Lynden and Sumas, Washington, Review Period Ends: 12/16/2024, Contact: Patrick Manning 253-218-5286.

EIS No. 20240205, Draft, BLM, WY, Newcastle and Nebraska Draft Resource Management Plans and Environmental Impact Statement, Comment Period Ends: 02/13/2025, Contact: Kathleen T. Lacko, Project Manager 307-261-7536.

EIS No. 20240206, Final, BLM, UT, Greater Sage-grouse Rangewide Planning Proposed Resource Management Plan Amendment and Final Environmental Impact Statement, Review Period Ends: 12/16/2024, Contact: Pat Deibert 720-447-8107.

EIS No. 20240207, Final, USCG, WA, Expansion and Modernization of Base Seattle, Washington, Review Period Ends: 12/16/2024, Contact: Dean Amundson 510-637-5541.

EIS No. 20240208, Draft, USFS, OR, Northwest Forest Plan Amendment, Comment Period Ends: 03/17/2025, Contact: Priya Shahani 707-562-8737.

EIS No. 20240209, Final, USAF, MA, Air National Guard F-15EX Eagle II and F-35A Lightning II Beddowns, Review Period Ends: 12/16/2024, Contact: Mr. Devin Scherer 240-612-8422.

EIS No. 20240210, Draft, BLM, NV, Purple Sage Energy Center Project, Comment Period Ends: 02/13/2025, Contact: Jessica Headen 702-515-5206.

EIS No. 20240211, Final, BR, CA, Long-Term Operation of the Central Valley Project and State Water Project, Review Period Ends: 12/16/2024, Contact: Tim Warner 916-539-9510.

EIS No. 20240212, Final, BLM, AZ, Jove Solar Energy Project, Review Period Ends: 12/16/2024, Contact: Derek Eysenbach 602-417-9505.

EIS No. 20240213, Final, BOEM, MA, SouthCoast Wind Project, Review Period Ends: 12/16/2024, Contact: Genevieve Brune 703-787-1553.

EIS No. 20240214, Draft Supplement, USFWS, AK, Potential Land Exchange Involving Izembek National Wildlife Refuge Lands, Comment Period Ends: 12/30/2024, Contact: Bobbie Jo Skibo 907-441-1539.

EIS No. 20240215, Draft, BOEM, CA, California Offshore Wind, Comment Period Ends: 02/12/2025, Contact: Lisa Gilbane 805-384-6387.

Amended Notice

EIS No. 20240169, Draft, GSA, TX, Proposed Modernization of the Bridge of the Americas Land Port of Entry, El Paso, Texas, Comment Period Ends: 12/02/2024, Contact: Karla Carmichael 817-822-1372.

Revision to FR Notice Published09/20/2024; Extending the Comment Period from 11/04/2024 to 12/02/2024.

Dated: November 8, 2024.
Timothy Witman,
Acting Director, NEPA Compliance Division, Office of Federal Activities.

[FR Doc. 2024-26654 Filed 11-14-24; 8:45 am]

BILLING CODE 6560-50-P